DEPARTMENT OF THE INTERIOR

National Park Service

General Management Plan Revision, Draft Environmental Impact Statement, Petrified Forest National Park, Arizona

AGENCY: National Park Service, Department of the Interior.

ACTION: Notice of availability of the draft Environmental Impact Statement for the General Management Plan Revision for Petrified Forest National Park.

SUMMARY: Pursuant to the National Environmental Policy Act of 1969, 42 U.S.C. 4332(C), the National Park Service announces the availability of a draft Environmental Impact Statement and General Management Plan Revision for Petrified Forest National Park, Arizona.

DATES: The draft Environmental Impact Statement and General Management Plan Revision will remain available for public review through May 13, 2003. No public meetings are scheduled at this time.

If you wish to comment, you may submit your comments by any one of several methods. You may mail comments to Superintendent, Petrified Forest National Park, P.O. Box 2217, Petrified Forest National Park, Arizona 86028. You may also comment via the Internet to Suzy_Stutzman@nps.gov. Please submit Internet comments either as an ASCII file avoiding the use of special characters and any form of encryption, as a Microsoft Word file, or as a Word Perfect file. Please also include your name and return address in your Internet message. If you do not receive a confirmation from the system that we have received your Internet message, contact us directly by calling Suzy Stutzman at 303-987-6671. Finally, you may hand-deliver comments to the Petrified Forest National Park visitor center or the Intermountain Support Office-Denver, 12795 W. Alameda Parkway, Lakewood, CO (room 186) 80228.

Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

ADDRESSES: Copies of the draft Environmental Impact Statement and General Management Plan Revision are available from the Superintendent, Petrified Forest National Park, P.O. Box 2217, Petrified Forest National Park, Arizona 86028. The plan is also available on the Internet at: http://planning.nps.gov/plans.cfm.

Public reading copies of the document will be available for review at the following locations:

Petrified Forest National Park,

P.O. Box 2217,

Petrified Forest National Park, Arizona 86028,

Telephone: 928-672-2700.

Planning and Environmental Quality,

Intermountain Support Office—Denver,

National Park Service,

12795 W. Alameda Parkway,

Lakewood, CO 80228,

Telephone: (303) 987-6671.

Office of Public Affairs, National Park Service,

Department of Interior,

18th and C Streets NW.,

Washington, DC 20240,

Telephone: (202) 208-6843.

FOR FURTHER INFORMATION CONTACT: Superintendent, Petrified Forest National Park, at the above address and telephone number.

SUPPLEMENTARY INFORMATION: This General Management Plan Revision / Environmental Impact Statement describes and analyzes four alternatives for managing Petrified Forest National Park. The approved plan revision will help managers make decisions about managing resources, visitation, and development for the next 15 to 20 years. Issues addressed by the plan revision relate to use of Painted Desert Inn National Historic Landmark, staff housing needs, cultural landscape values, use and treatment of Painted Desert headquarters complex, museum collections, accommodating researchers, concessions, and providing for resource protection and visitor experience/understanding in different areas of the park.

Alternative 1, the no-action alternative, would continue present management. It provides a baseline for understanding changes and impacts of the other alternatives. There would be no new construction or major changes, and the park would be operated and maintained as before. Resources would be protected as funding allows. Visitor and operational facilities would remain concentrated in the Painted Desert and Rainbow Forest areas. Some areas would be closed or access modified to address harmful resource impacts. Visitor uses would be reassessed and revised as new information about natural and cultural resource impacts becomes available. Museum collections would be stored offsite and in the park, some in substandard facilities. In alternative 2, the preferred alternative, reusing and maintaining the historic integrity of Painted Desert headquarters complex would be a priority. Visitor services at Painted Desert Inn (rehabilitated) would be expanded. Facility improvements would be made at Rainbow Forest. Park lands would be managed similar to now, but with greater protection for natural and cultural resources from increased monitoring and adapting to new information. Some trails and turnouts would be added, and visitor hours would be expanded in the north. Most park collections would be housed in a new facility at headquarters. In alternative 3, the park would be managed as a fossil resource preserve. Painted Desert Inn and the headquarters complex would be rehabilitated and adaptively reused. Improvements would be made at Rainbow Forest developed area. This alternative would provide the most protection for natural and cultural resources. Visitors would be encouraged to explore the park primarily in selected frontcountry areas. Some sensitive areas would be closed to visitor use. Backcountry access would be managed with permits and/or other methods (e.g., guided access only). Interpretive services would be expanded to increase understanding of park resources. Park collections would be reunited at the park in a new facility. In alternative 4, resources would be protected while more opportunities to experience park resources would be provided. Visitor services at Painted Desert Inn (rehabilitated) would be expanded. Painted Desert headquarters complex would be demolished and rebuilt in phases in the same location. Improvements would be made at Rainbow Forest developed area. New trails, turnouts, and other options would expand opportunities to experience and understand park resources. Visitor hours would be expanded in the north. Park collections would be moved to institutions and/or agency facilities outside the park that meet National Park Service standards.

This document includes discussion of the potential environmental consequences of each alternative. Notable impacts of alternative 1 include adverse impacts to the Painted Desert headquarters complex and historic residences near the Painted Desert Inn from continued deterioration; adverse impacts on museum collections from inadequate facilities, limited work space, and inaccuracies in recordkeeping; adverse impacts on archeological resources and petrified wood and other fossils, primarily from visitor use; adverse impacts on visitor experience and appreciation from dated interpretive materials and lack of opportunities and accessibility. Notable impacts of alternative 2 include potential adverse impacts to archeological sites and petrified wood from new trails; adverse impacts to Rainbow Forest cultural landscape from parking and walkway realignment; beneficial impacts to park collections from construction of a new collections facility; beneficial impacts on visitor experience and appreciation from new turnouts, trails, and facility improvements; beneficial impacts to park operations from improved work conditions and facilities. Impacts of alternative 3 include adverse impacts to Rainbow Forest cultural landscape from parking and walkway realignment; beneficial impacts on archeological sites and petrified wood from reducing trails and controlling backcountry use; adverse impacts to operations from new visitor programs; beneficial impacts on park operations from improved work conditions and facilities. Impacts of alternative 4 include adverse impacts to Rainbow Forest cultural landscape from parking and walkway realignment; adverse impacts to archeological sites and petrified wood from new trails and turnouts; beneficial impacts on visitor experience and appreciation from new facilities, turnouts, trails, and expanded services; beneficial impacts to park operations from new facilities and removal of deteriorating structures.

Dated: January 24, 2003.
Karen P. Wade,
Director, Intermountain Region, National Park Service.

[FR Doc. 03-6208 Filed 3-13-03; 8:45 am]

BILLING CODE 4310-70-P